DEPARTMENT OF THE INTERIOR

National Park Service

[NPS-AKRO-DENA-10403; 9924-PYS]

Notice of June 30, 2012, Meeting for Denali National Park Subsistence Resource Commission

AGENCY: National Park Service, Interior.

ACTION: Meeting notice.

SUMMARY: This notice sets the date of the June 30, 2012, meeting of the Denali Subsistence Resource Commission.

DATES: The public meeting of the Denali Subsistence Resource Commission will be held on Saturday, June 30, 2012, from 9:00 a.m. to 5:00 p.m. (Alaska) or until business is completed. Should a quorum not be available on June 30, 2012, an alternate meeting date has been scheduled on Saturday, July 21, 2012, from 9 a.m. to 5 p.m. If the meeting dates and location are changed, a notice will be published in local newspapers and announced on local radio stations prior to the meeting date. SRC meeting locations and dates may need to be changed based on inclement weather or exceptional circumstances.

Location: The meeting will be held at the Nikolai Tribal Council Office in Nikolai, AK.

Proposed Agenda

The proposed meeting agenda for each meeting includes the following:

1. Call to order—Confirm Quorum

2. Welcome and Introductions (SRC Chair and Superintendent)

3. Administrative Announcements

4. Approval of Agenda and Minutes

5. SRC Member Reports on Subsistence Issues/Activities

6. Public and Other Agency Comments

7. Old Business

—NPS Subsistence Collections Environmental Assessment Update

8. New Business

—Community Sheep Hunt Proposal

—Status of SRC Membership—Vacancies

9. NPS Staff Reports

—Subsistence Project Updates

—Ranger Division Updates

—Resource Management Program Updates

—Fish and Wildlife Updates

10. Public and Other Agency Comments

11. Select Time and Location for Next Meeting

12. Adjourn Meeting

FOR FURTHER INFORMATION CONTACT: Paul Anderson, Superintendent or Amy Craver, Subsistence Manager at (907) 683-2294 or Clarence Summers, Subsistence Manager, NPS Alaska Regional Office at (907) 644-3603. If you are interested in applying for Denali National Park SRC membership, contact the Superintendent at P.O. Box 9, Denali Park, AK 99755, or visit the park Web site at: http://www.nps.gov/dena/contacts.htm.

SUPPLEMENTARY INFORMATION: Denali National Park Subsistence Resource Commission (SRC) will meet to develop and continue work on National Park Service (NPS) subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat. 770) requires that public notice of this meeting to be announced in the Federal Register. The meeting is open to the public. Interested persons may make oral/written presentations to the Commission or file written statements. Such requests should be made to the Superintendent at least seven days prior to the meeting. Before including your address, phone number, email address, or other personal identifying information in your comment, you should be aware that your entire comment—including your personal identifying information—may be made publicly available at any time. While you can ask us in your comment to withhold your personal identifying information from public review, we cannot guarantee that we will be able to do so.

Dated: June 5, 2012.
Debora Cooper,
Associate Regional Director, Resources and Subsistence, Alaska Region.

[FR Doc. 2012-14292 Filed 6-11-12; 8:45 am]

BILLING CODE 4310-PF-P